DEPARTMENT OF AGRICULTURE

Submission for OMB Review; Comment Request; Reinstatement and Revision of a Previously Approved Information Collection

The Department of Agriculture will submit the following information collection requirement(s) to OMB for review and clearance under the Paperwork Reduction Act of 1995, Public Law 104-13 on or after the date of publication of this notice. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by July 18, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: United States Warehouse Act (USWA).

OMB Control Number: 0581-0305.

Summary of Collection: AMS is responsible, as required by the USWA, 7 U.S.C. 869 et seq., to license public warehouse operators that are in the business of storing agricultural products, to examine such federally licensed warehouses and to license qualified persons to sample, inspect, weigh, and classify agricultural products. AMS licenses under the USWA cover approximately half of all commercial grain and cotton warehouse capacities in the United States. The regulations that implement the USWA govern the establishment and maintenance of systems under which documents, including documents of title on shipment, payment, and financing, may be issued, or transferred for agricultural products. Some of these systems and documents issued may be electronic. The regulations are found at 7 CFR 869 et seq.

Need and Use of the Information: This information collection allows AMS to effectively administer the regulations, licensing, and electronic provider agreements and related reporting and recordkeeping requirements as specified in the USWA.

Description of Respondents: Business or other for-profit. Farms.

Number of Respondents: 3,000.

Frequency of Responses: Recordkeeping; Reporting: On occasion; Weekly.

Total Burden Hours: 38,917.

Agricultural Marketing Service

Title: FarmerFairness.gov USDA/DOJ Complaint Web Portal.

OMB Control Number: 0581-0333.

Summary of Collection: The P&S Act and the regulations issued under the P&S Act authorize the collection of information for the purpose of enforcing the P&S Act and regulations and for conducting studies requested by Congress. The laws and regulations relating to competition in the meat and poultry industries confer separate and overlapping jurisdiction to the U.S. Department of Agriculture and the U.S. Department of Justice. Farmers, ranchers, and other interested persons may not be aware of this and may not know to whom or how to file a complaint or tip if they suspect a violation of those laws or regulations. This joint complaint portal allows those farmers, ranchers and interested persons to go to one website to submit information and USDA and DOJ will determine the appropriate jurisdiction and any follow up actions.

Need and Use of the Information: This information collection is necessary for PSD and DOJ to monitor and examine complaints regarding financial, competitive, and trade practices in the livestock, meat packing and poultry industries.

Description of Respondents: State, Local, and Tribal Governments.

Number of Respondents: 110.

Frequency of Responses: Reporting: Annually.

Total Burden Hours: 165.

Levi S. Harrell,
Departmental Information Collection Clearance Officer.

[FR Doc. 2022-13122 Filed 6-16-22; 8:45 am]

BILLING CODE 3410-02-P